ENVIRONMENTAL PROTECTION AGENCY

[FRL-6926-3]

Agency Information Collection Activities: Submission for OMB Review; Comment Request; Petroleum Refinery Wastewater Systems

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Standards of Performance for NSPS Subpart QQQ—Petroleum Refinery Wastewater Systems, OMB Control number 2060-0172, expiration date December 31, 2000. The ICR describes the nature of the information collection and its expected burden and cost; where appropriate, it includes the actual data collection instrument.

DATES: Comments must be submitted on or before January 29, 2001.

ADDRESSES: Send comments, referencing EPA ICR No. 1136.06 and OMB Control No. 2060-0172, to the following addresses: Sandy Farmer, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by E-Mail at Farmer.Sandy@epamail.epa.gov or download off the Internet at http://www.epa.gov/icr and refer to EPA ICR No. 1136.06. For technical questions about the ICR contact Dan Chadwick at 202-564-7054.

SUPPLEMENTARY INFORMATION: Title: Standards of Performance for NSPS Subpart QQQ—Petroleum Refinery Wastewater Systems (OMB Control No. 2060-0172; EPA ICR No. 1136.06) expiring December 31, 2000. This is a request for extension of a currently approved collection.

Abstract: The New Source Performance Standards (NSPS) for petroleum refinery wastewater systems were proposed on May 4, 1987 and promulgated on November 23, 1988. These standards apply to the following facilities in petroleum refinery wastewater systems: individual drain systems, oil-water separators, and aggregate facilities commencing construction, modification or reconstruction after the date of proposal. An individual drain system consists of all process drains connected to the first downstream junction box. An oil-water separator is the wastewater treatment equipment used to separate oil from water. An aggregate facility is an individual drain system together with ancillary downstream sewer lines and oil-water separators, down to and including the secondary oil-water separators, as applicable. Aggregate facilities were created to capture all potential volatile organic compound (VOC) emissions within the petroleum refinery wastewater system even as this system is expanded and added to. There are no additional recordkeeping or reporting requirements for aggregate facilities. This information is being collected to assure compliance with 40 CFR part 60, subpart QQQ.

Owners or operators of the affected facilities described must make initial notification and maintain records of the occurrence and duration of any startup, shutdown, or malfunction in the operation of an affected facility, or any period during which the monitoring system is inoperative. Monitoring requirements specific to petroleum refinery wastewater systems provide information on the operation of the emissions control device. Semiannual reports of excess emissions are required. These notifications, reports and records are required, in general, of all sources subject to NSPS. Any owner or operator subject to the provisions of this part shall maintain a file of these measurements, maintenance reports and records and retain the file for at least two years following the date of such measurements, maintenance reports, and records.

Monitoring requirements provide information on the operation of the emissions control device. All information is being collected to assure compliance with 40 CFR part 60, subpart QQQ. This information is mandatory as per 40 CFR 60.697 and 60.698.

An agency may not conduct or sponsor, and a person is not required to respond to, a collection of information unless it displays a currently valid OMB control number. The OMB control numbers for EPA's regulations are listed in 40 CFR part 9 and 48 CFR Chapter 15. The Federal Register Notice required under 5 CFR 1320.8(d), soliciting comments on this collection of information was published on April 18, 2000 (65 FR 20813); no comments were received.

Burden Statement: The annual public reporting and recordkeeping burden for this collection of information is estimated to average 115 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners/Operators Petroleum Refinery Wastewater Systems

Estimated Number of Respondents: 160.

Frequency of Response: Semi-annually.

Estimated Total Annual Hour Burden: 36,866.

Estimated Total Annualized Capital, O&M Cost Burden: $56,995.

Send comments on the Agency's need for this information, the accuracy of the provided burden estimates, and any suggested methods for minimizing respondent burden, including through the use of automated collection techniques to the following addresses. Please refer to EPA ICR No. 1136.06 and OMB Control No. 2060-0172 in any correspondence.

Dated: December 20, 2000.
Oscar Morales,
Director, Collection Strategies Division.

[FR Doc. 00-33354 Filed 12-28-00; 8:45 am]

BILLING CODE 6560-50-P